DEPARTMENT OF ENERGY

Notice of Availability of a Special Environmental Analysis; Potomac River Generating Station

AGENCY: Department of Energy (DOE).

ACTION: Notice of Availability.

SUMMARY: DOE has prepared a Special Environmental Analysis (SEA) for Actions Taken under U.S. Department of Energy Emergency Orders Regarding Operation of the Potomac River Generating Station in Alexandria, Virginia, and is announcing its availability. In the SEA, DOE examines environmental impacts from the Secretary of Energy's December 20, 2005 Emergency Order, and the Secretary's September 28, 2006 extension of that Emergency Order; the SEA covers a period of about 24 months beginning in December 2005. The SEA also considers alternatives that include mitigation measures that DOE may take until the Potomac Electric Power Company's (PEPCO) installation of two additional 230 kV electric transmission lines to the Central Washington, DC area (expected in June 2007) that would appear to eliminate the emergency that lead to the issuance of the December 20, 2005 Emergency Order.

DOE prepared the SEA after consulting with the Council on Environmental Quality (CEQ) for alternative arrangements under 40 CFR 1506.11, which applies where emergency circumstances make it necessary to take action without preparing an environmental impact statement (EIS). The U.S. Environmental Protection Agency worked with DOE on this SEA.

Simultaneously with issuance of the SEA, the Secretary is issuing another temporary extension of the Emergency Order until February 1, 2007. DOE is providing the public an opportunity to comment before the Secretary considers whether to allow the Order to expire, extend the Order, or extend the Order with mitigation measures.

DATES: DOE has posted the SEA on two websites: its Web site for this matter at http://www.oe.energy.gov/permitting/372.htm and the DOE NEPA Web site at http://www.eh.doe.gov/nepa/documentspub.html. Comments on the SEA should be submitted to DOE on or before January 8, 2007.

ADDRESSES: Comments should be addressed to: Anthony J. Como; Permitting, Siting, and Analysis Division; Office of Electricity Delivery and Energy Reliability (OE-20); U.S. Department of Energy; 1000 Independence Avenue, SW., Washington, DC 20585; telephone: 202-586-5935; fax: 202-586-5860; or anthony.como@hq.doe.gov. Due to postal security procedures, comments sent through the U.S. Mail may be delayed.

FOR FURTHER INFORMATION CONTACT: For information on the DOE NEPA process, please contact: Carol M. Borgstrom, Director, Office of NEPA Policy and Compliance (GC-20), U.S. Department of Energy, 1000 Independence Avenue, SW, Washington, DC 20585-0103; telephone: 202-586-4600; fax: 202-586-7031; or leave a toll-free message at: 800-472-2756.

For further information on the Emergency Order contact Lawrence Mansueti, Permitting, Siting, and Analysis Division; Office of Electricity Delivery and Energy Reliability (OE-20); U.S. Department of Energy; telephone: 202-586-2588; fax: 202-586-5860; or lawrence.mansueti@hq.doe.gov.

SUPPLEMENTARY INFORMATION: On December 20, 2005, the Secretary of Energy issued Order No. 202-05-3 (Emergency Order) pursuant to Section 202(c) of the Federal Power Act. The Emergency Order directed Mirant Corporation and its wholly owned subsidiary, Mirant Potomac River, LLC, to generate electricity at its Potomac River Generating Station in limited circumstances in order to address electric reliability, including the risk of a blackout, in the Central Washington DC area. On September 28, 2006, the Secretary of Energy issued Order No. 202-06-2 temporarily extending DOE Order No. 202-05-3 until December 1, 2006.

In emergency situations, pursuant to 40 CFR 1506.11, the Council on Environmental Quality (CEQ) regulations for implementing the National Environmental Policy Act of 1969 call for agencies to consult with CEQ to determine what alternative arrangements the agency will take in lieu of preparing an environmental impact statement that might otherwise be required for the relevant action. DOE prepared the SEA pursuant to the alternative arrangements agreed upon with CEQ.

The SEA includes descriptions of the DOE Emergency Order and extensions thereof, assessments of the direct, indirect, and cumulative impacts resulting from the actions, and consideration of alternative actions that DOE could take that could lessen the adverse effect of any additional future extension of the Order.

Issued in Washington DC on November 22, 2006.
David R. Hill,
General Counsel.

[FR Doc. E6-20225 Filed 11-28-06; 8:45 am]

BILLING CODE 6450-01-P